NATIONAL AERONAUTICS AND SPACE ADMINISTRATION

[Notice (09-055)]

NASA Advisory Council; Meeting

AGENCY: National Aeronautics and Space Administration.

ACTION: Notice of meeting.

SUMMARY: In accordance with the Federal Advisory Committee Act, Public Law 92-463, as amended, the National Aeronautics and Space Administration announces a meeting of the NASA Advisory Council. The agenda for the meeting includes updates from each of the Council committees, including discussion and deliberation of potential recommendations. The Council Committees address NASA's work in the following areas: Aeronautics, Audit and Finance, Space Exploration, Human Capital, Science, and Space Operations.

DATES: Thursday, July 16, 2009, 8 a.m.-4:30 p.m.

ADDRESSES: Columbia Ballroom, The Holiday Inn Capitol, 550 C Street, SW., Washington, DC 20024.

FOR FURTHER INFORMATION CONTACT: Ms. Marguerite Broadwell, Designated Federal Official, National Aeronautics and Space Administration, Washington, DC, 20546, 202/358-1894.

SUPPLEMENTARY INFORMATION: The meeting will be open to the public up to the seating capacity of the room. It is imperative that the meeting be held on this date to accommodate the scheduling priorities of the key participants.

Dated: June 16, 2009.
P. Diane Rausch,
Advisory Committee Management Officer, National Aeronautics and Space Administration.

[FR Doc. E9-14605 Filed 6-19-09; 8:45 am]

BILLING CODE 7510-13-P